DEPARTMENT OF TRANSPORTATION

Office of the Secretary

49 CFR Part 1

[OST-1999-6189]

Organization and Delegation of Powers and Duties; Delegation to the Commandant, United States Coast Guard

AGENCY: Office of the Secretary, DOT.

ACTION: Final rule.

SUMMARY: The Secretary of Transportation is delegating to the Commandant, United States Coast Guard, his authority to regulate the discharge of sewage and graywater by cruise vessels into certain Alaskan waters.

DATES: This final rule is effective on May 8, 2001.

FOR FURTHER INFORMATION CONTACT: If you have questions on this rule, call Kathryn Sinniger, Office of Regulations and Administrative Law, US Coast Guard, 202-267-0128. If you have questions on viewing the docket, call Dorothy Beard, Chief, Dockets, Department of Transportation, telephone 202-366-5149.

SUPPLEMENTARY INFORMATION: In December, 2000, Congress passed Title XIV—Certain Alaskan Cruise Ship Operations, Public Law 106-554, limiting the discharges of treated and untreated sewage and graywater by cruise vessels visiting Alaskan ports and operating in the waters of the Alexander Archipelago and the navigable waters of the United States within the State of Alaska and within Kachemak Bay National Estuarine Research Reserve. Title XIV directs the Secretary to promulgate regulations, including requirements for logbooks and reports, incorporating into the vessel examination and inspection regime the sampling of cruise vessel discharges sufficient to verify that those vessels comply with all applicable environmental laws and international treaty requirements.

The Secretary is delegating to the Commandant, United States Coast Guard, his authority under Title XIV—Certain Alaskan Cruise Ship Operations, Public Law 106-554, to promulgate regulations that will ensure compliance with this statute by the owners, operators, masters, or other person in charge of cruise vessels operating in waters covered by this statute.

This delegation is being published as a final rule effective on the date of publication. Since this amendment relates to the Departmental management, organization, procedure, and practice, notice and comment are unnecessary under 5 U.S.C. 553(b). Furthermore, since this amendment expedites the Coast Guard's ability to promulgate regulations to meet the environmental goals and enforcement obligations of the statute, the Secretary finds good cause, under 5 U.S.C. 553(d)(3), that this rule should be made effective on the date of publication.

List of Subjects in 49 CFR Part 1

Authority delegations (Government agencies), Organization and functions (Government agencies).

In consideration of the foregoing, Part 1 of Title 49, Code of Federal Regulations, is amended to read as follows:

PART 1—[AMENDED]

1. The authority citation for Part 1 continues to read as follows:

Authority: 49 U.S.C. 322; 46 U.S.C. 2104(a); 28 U.S.C. 2672; 31 U.S.C 3711(a)(2); Pub. L. 101-552, 104 Stat. 2736; Pub. L. 106-159, 113 Stat. 1748.

2. In § 1.46, add new paragraph (ttt) to read as follows:

§ 1.46 Delegations to Commandant of the Coast Guard.

* * * * *

(ttt) Carry out the functions and exercise the authority vested in the Secretary by Title XIV—Certain Alaskan Cruise Ship Operations, Public Law 106-554 to regulate the discharge of sewage and graywater by cruise vessels into the waters of the Alexander Archipelago, as defined in that law, and the navigable waters of the United States within the State of Alaska and within Kachemak Bay National Estuarine Research Reserve.

Issued on: April 27, 2001.
Norman Y. Mineta,
Secretary of Transportation.

[FR Doc. 01-11424 Filed 5-4-01; 8:45 am]

BILLING CODE 4910-62-U